DEPARTMENT OF ENERGY

Federal Energy Regulatory Commission

[Project Nos. 12462-020]

Indian River Power Supply, LLC; Notice of Availability of Environmental Assessment

January 13, 2010.

In accordance with the National Environmental Policy Act of 1969 and the Federal Energy Regulatory Commission's (Commission) regulations, 18 CFR part 380 (Order No. 486, 52 FR 47897), the Office of Energy Projects has reviewed an application for amendment of exemption for the Indian River Hydroelectric Project (FERC No. 12462). An environmental assessment (EA) has been prepared as part of staff's review of the proposal. The exempted project is located on the Westfield River, in the Town of Russell, in Hampden County, Massachusetts.

In the application, Indian River Power Supply, LLC (exemptee) proposes to replace the project's existing cylinder-gate Holyoke turbine with a large, horizontal, Francis wicket-gate turbine, which would add another 800 kilowatts of nameplate capacity and approximately 428 cubic feet per second of hydraulic capacity. The EA contains Commission staff's analysis of the probable environmental impacts of the proposal and concludes that approval of the proposal would not constitute a major federal action significantly affecting the quality of the human environment.

The EA is attached to a Commission order titled “Order Amending Exemption and Revising Annual Charges,” which was issued January 12, 2010, and is available for review and reproduction at the Commission's Public Reference Room, located at 888 First Street, NE., Room 2A, Washington, DC 20426. The EA may also be viewed on the Commission's Web site at http://www.ferc.gov using the “elibrary” link. Enter the docket number (P-12462) in the docket number field to access the document. For assistance, contact FERC Online Support at FERCOnlineSupport@ferc.gov or toll-free at 1-866-208-3372, or for TTY, (202) 502-8659.

Kimberly D. Bose,
Secretary.

[FR Doc. 2010-1008 Filed 1-20-10; 8:45 am]

BILLING CODE 6717-01-P